DEPARTMENT OF JUSTICE

Notice of Lodging of Consent Decree Pursuant to the Comprehensive Environmental Response, Compensation, and Liability Act

In accordance with Departmental policy, 28 CFR 50.7, notice is hereby given that on March 31, 2000, the United States of America, on behalf of the United States Environmental Protection Agency (“EPA”), in a civil action styled United States v. Boomsnub, Civil Action No. 97-5719-FDB (W.D. Wash.), the United States lodged with the United States District Court for the Western District of Washington a Consent Decree with defendants the Boomsnub Corporation, Edward Takitch and the Estate of Jason Niblett resolving the United States' claims in this action.

The Consent Decree requires the defendants to pay $2,064,874.88 incurred by the United States on behalf of EPA in response to releases of hazardous substances at the Boomsnub Superfund Site in Vancouver, Washington. The Consent Decree also requires the defendants to liquidate certain properties and pay the proceeds to the Superfund.

The Department of Justice will receive, for a period of thirty (30) days from the date of this publication, comments relating to the proposed Consent Decree. Comments should be addressed to the Assistant Attorney General for the Environment and Natural Resources Division, Department of Justice, Washington, DC 20530, and should refer to United States v. Boomsnub, DOJ Ref. #90-11-2-1018a.

The proposed Consent Decree may be examined at the Office of the United States Attorney, 1010 Fifth Avenue, Seattle, WA 98104. A copy of the proposed Consent Decree may be obtained by mail from the Consent Decree Library, U.S. Department of Justice, Environment and Natural Resources Division, Environmental Enforcement Section, P.O. Box 7611, Washington, DC 20044-7611. In requesting a copy please refer to the referenced case and enclose a check in the amount of $8.50 (25 cents per page reproduction costs), payable to the Consent Decree Library.

Joel M. Gross,
Chief, Environmental Enforcement Section, Environment and Natural Resources Division.

[FR Doc. 00-9158 Filed 4-12-00; 8:45 am]

BILLING CODE 4410-15-M